DEPARTMENT OF HEALTH AND HUMAN SERVICES

Centers for Disease Control and Prevention

[30Day-19-18UF]

Agency Forms Undergoing Paperwork Reduction Act Review

In accordance with the Paperwork Reduction Act of 1995, the Centers for Disease Control and Prevention (CDC) has submitted the information collection request titled Assessment of Evidence to Inform Standards that Ensure Turnout Gear Remains Protective Throughout Its Lifecycle to the Office of Management and Budget (OMB) for review and approval. CDC previously published a “Proposed Data Collection Submitted for Public Comment and Recommendations” notice on April 12, 2018 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Evidence to Inform Standards that Ensure Turnout Gear Remains Protective Throughout Its Lifecycle—New—National Institute for Occupational Safety and Health (NIOSH), Centers for Disease Control and Prevention (CDC).

Background and Brief Description

Turnout gear is a type of personal protective equipment used by the 1.1 million U.S. fire fighters to shield the body from carcinogens, flames, heat, and chemical/biological agents. It serves as a barrier to external hazards while simultaneously allowing for the escape of metabolic heat to prevent elevated core body temperatures. To provide the necessary performance characteristics, turnout gear design is complex, consisting of three major layers that work as a composite—a thermal liner, a moisture barrier, and an outer shell.

Consensus standards provide performance requirements and retirement criteria for turnout gear. The retirement criteria is based on visual inspections and a 10-year age cap with visual inspection being less effective for the moisture barrier and thermal liner layers. Recent data of turnout gear donated from fire departments demonstrates that turnout gear from 2 to 10 years old was unable to meet all performance requirements. Thus, under the current retirement criteria, turnout gear that may not be protective against all hazards is being used by fire fighters.

Intuitively, the use conditions to which turnout gear would be exposed to when used by a large or medium metropolitan fire department would be very different than those of a smaller department. However, the absence of scientific data to link performance to use conditions (e.g., number and type of washings, number of fire-related calls) provides a barrier to transitioning to an alternative approach to retirement.

This study will obtain a statistically meaningful sample of turnout gear from three fire departments. The use conditions for the sampled turnout gear will be determined, and the gear will be subjected to established performance requirements. For each set of gear, its performance will be directly linked to its use condition history. This combined lab and field data will help determine if there is a relationship between turnout gear use conditions and the ability for turnout gear to effectively protect the user.

The use conditions for each set of sampled gear will be determined by:

(1) Reviewing fire department records, practices, and policies;

(2) surveying the fire fighters assigned to each set of sampled gear to obtain one-month of retrospective information about the use conditions to which it was likely exposed; and

(3) a 6-month prospective data collection where the fire fighters assigned to each set of sampled gear provide information about their shift-specific exposures.

The estimated annualized Burden Hours for this information collection is 1,050. There is no cost to respondents other than their time.

Estimated Annualized Burden Hours
Type of respondents | Form name | Number of respondents | Number of responses per respondent | Average burden per response (in hours)
Individual Fire Fighter | Turnout Gear Safety Survey—Retrospective Exposures for past month | 100 | 1 | 30/60
| Turnout Gear Safety Survey—Prospective Exposures for six months | 100 | 60 | 10/60

Jeffrey M. Zirger,
Acting Chief, Information Collection Review Office, Office of Scientific Integrity, Office of the Associate Director for Science, Office of the Director, Centers for Disease Control and Prevention.

[FR Doc. 2018-22939 Filed 10-19-18; 8:45 am]

BILLING CODE 4163-18-P